FEDERAL RESERVE SYSTEM

Privacy Act of 1974; Notice of a New System of Records

AGENCY: Board of Governors of the Federal Reserve System.

ACTION: Notice of a modified system of records.

SUMMARY: Pursuant to the provisions of the Privacy Act of 1974, notice is given that the Board of Governors of the Federal Reserve System (Board) proposes to modify an existing system of records entitled, BGFRS-23, “FRB—Freedom of Information Act and Privacy Act Case Tracking and Reporting System.” BGFRS-23 permits Board staff to track Freedom of Information Act (FOIA) and Privacy Act (PA) requests, input processing data, and produce reports.

DATES: Comments must be received on or before January 27, 2020. This modified system of records will become effective January 27, 2020, without further notice, unless comments dictate otherwise.

The Office of Management and Budget (OMB), which has oversight responsibility under the Privacy Act, requires a 30-day period prior to publication in the Federal Register in which to review the system and to provide any comments to the agency. The public is then given a 30-day period in which to comment, in accordance with 5 U.S.C. 552a(e)(4) and (11).

ADDRESSES: You may submit comments, identified by BGFRS-23 “FRB—Freedom of Information Act and Privacy Act Case Tracking System,” by any of the following methods:

• Agency website: https://www.federalreserve.gov. Follow the instructions for submitting comments at https://www.federalreserve.gov/apps/foia/proposedregs.aspx.

• Email: regs.comments@federalreserve.gov. Include SORN name and number in the subject line of the message.

• Fax: (202) 452-3819 or (202) 452-3102.

• Mail: Ann E. Misback, Secretary, Board of Governors of the Federal Reserve System, 20th Street and Constitution Avenue NW, Washington, DC 20551.

All public comments will be made available on the Board's website at https://www.federalreserve.gov/apps/foia/proposedregs.aspx as submitted, unless modified for technical reasons, or to remove sensitive PII. Public comments may also be viewed electronically or in paper form in Room 146, 1709 New York Avenue NW, Washington, DC 20006 between 9:00 a.m. and 5:00 p.m. on weekdays.

FOR FURTHER INFORMATION CONTACT: David B. Husband, Counsel, (202) 530-6270, or david.b.husband@frb.gov; Legal Division, Board of Governors of the Federal Reserve System, 20th Street and Constitution Avenue NW, Washington, DC 20551. Telecommunications Device for the Deaf (TDD) users may contact (202) 263-4869.

SUPPLEMENTARY INFORMATION: BGFRS-23 allows staff to log and track the receipt and processing of FOIA or PA requests from individuals (i.e., “Requesters”) using data that is either received from the requester, his/her representative, or from another federal agency which is referring a request to the Board for disclosure of records that originated from the Board. The system also contains data automatically generated by the system about the request (e.g., record number). Board staff use the system to record the status of the request, relevant deadlines, other key events or data (such as the date of the response to the request), and any related administrative appeals.

The Board is amending the system to update the system manager, clarify the category of individuals covered by the system, update the description of the categories of records in the system, and note that records are no longer stored in paper form but solely in electronic form. In addition, the Board is amending the applicable routine uses. The Board is adding its General Routine Use D (permitting disclosure to the Department of Justice, a court, an adjudicative body or administrative tribunal, or a party in litigation), and General Routine Use G (permitting disclosure to contractors, agents, or others). At the request of the Office of Government Information Services (OGIS) the Board is also adding a new system-specific routine use to allow OGIS to fulfill its mediation responsibilities. The Board is also modifying the existing system-specific routine use for disclosure to other agencies for the purpose of access or amendment of responsive request. The modification clarifies that the Board will only share information under this routine use with the other agency when that agency has a substantial interest in the determination of the request or for the purpose of consulting with that agency regarding the propriety of access to the record in order to complete the processing of the request.

The Board is also making technical changes to BGFRS-23 consistent with the template laid out in OMB Circular No. A-108. Accordingly, the Board has made technical corrections and non-substantive language revisions to the following categories: “Policies and Practices for Storage of Records,” “Policies and Practices for Retrieval of Records,” “Policies and Practices for Retention and Disposal of Records,” “Administrative, Technical and Physical Safeguards,” “Record Access Procedures,” “Contesting Record Procedures” and “Notification Procedures.” The Board has also created the following new fields: “Security Classification” and “History”.

SYSTEM NAME AND NUMBER:

BGFRS-23, “FRB—Freedom of Information Act and Privacy Act Case Tracking and Reporting System.”

SECURITY CLASSIFICATION:

Unclassified.

SYSTEM LOCATION:

The Board maintains the records at the Board's central office, located at: Board of Governors of the Federal Reserve System, 20th Street and Constitution Avenue NW, Washington, DC 20551.

SYSTEM MANAGER(S):

Candace Ambrose, Manager, Information Disclosure Section, Office of the Secretary, Board of Governors of the Federal Reserve System, 20th Street and Constitution Avenue NW, Washington, DC 20551, 202-452-2407, or candace.ambrose@frb.gov.

AUTHORITY FOR MAINTENANCE OF THE SYSTEM:

Freedom of Information Act (5 U.S.C. 552), the Privacy Act of 1974 (5 U.S.C. 552a), and 12 CFR 261 and 261a.

PURPOSE(S) OF THE SYSTEM:

These records are collected and maintained to process requests made under the provisions of the Freedom of Information Act (FOIA) and Privacy Act and to assist the Board in carrying its responsibilities related to the FOIA and Privacy Act.

CATEGORIES OF INDIVIDUALS COVERED BY THE SYSTEM:

Individual requesters who submit requests and administrative appeals pursuant to the provisions of the FOIA or Privacy Act; individual requesters whose FOIA or Privacy Act requests, appeals, or other records, have been referred to the Board by other agencies; attorneys or other persons who are authorized to represent individuals submitting requests and appeals; and individuals who are the subject of FOIA requests or appeals submitted by a third-party.

CATEGORIES OF RECORDS IN THE SYSTEM:

Records in this system contain contact information on requesters and the attorneys/representatives of the requestors, including names, addresses, email addresses, fax numbers, and telephone numbers. Records may also include the date the request was made, a description of the information requested, and the staff assigned to process the request or appeal. The system may also include voluntarily submitted information, which the Board has not requested, such as, but not limited to, the individual's social security number and bank account or mortgage loan numbers. The Board also compiles statistical and administrative data on the requests it processes for reporting purposes, including the Board's annual FOIA report to the Department of Justice, submitted in accordance with 5 U.S.C. 552(e).

RECORD SOURCE CATEGORIES:

Information is provided by the individual making the request or their representative, or by other agencies which are referring requests for access to records that originated from the Board, and Board staff engaged in processing or making determinations on the requests.

ROUTINE USES OF RECORDS MAINTAINED IN THE SYSTEM, INCLUDING CATEGORIES OF USERS AND PURPOSES OF SUCH USES:

General routine uses C, D, G, I, and J apply to this system. These general routine uses are located at https://www.federalreserve.gov/files/SORN-page-general-routine-uses-of-board-systems-of-records.pdf and are published in the Federal Register at 83 FR 43872 at 43873-74 (August 28, 2018). In addition, records may also be disclosed to:

1. Another Federal Government agency having a substantial interest in the determination of the request or for the purpose of consulting with that agency as to the propriety of access to the record in order to complete the processing of the request;

2. The National Archives and Records Administration, Office of Government Information Services (OGIS), to the extent necessary to fulfill its responsibilities in 5 U.S.C. 552(h), to review administrative agency policies, procedures and compliance with the FOIA and to facilitate OGIS' offering of mediation services to resolve disputes between persons making FOIA requests and administrative agencies; and

3. The news media and the public, unless it is determined that release of specific information in the context of a particular case would constitute an unwarranted invasion of personal privacy.

POLICIES AND PRACTICES FOR STORAGE OF RECORDS:

Electronic records are stored on a secure server.

POLICIES AND PRACTICES FOR RETRIEVAL OF RECORDS:

Records can be retrieved by the name of the requester, tracking number assigned to the request, subject matter of the request, or any other field of information that is collected.

POLICIES AND PRACTICES FOR RETENTION AND DISPOSAL OF RECORDS:

The Board retains the records for the designated retention period, which ranges from six years after final agency action or three years after final adjudication by the courts, whichever is later, but longer retention is authorized if required for business use.

ADMINISTRATIVE, TECHNICAL, AND PHYSICAL SAFEGUARDS:

The system has the ability to track individual user actions within the system. The audit and accountability controls are based on NIST and Board standards which, in turn, are based on applicable laws and regulations. The controls assist in detecting security violations and performance or other issues in the system. Access to the system is restricted to authorized users within the Board who require access for official business purposes. Users are classified into different roles and common access and usage rights are established for each role. User roles are used to delineate between the different types of access requirements such that users are restricted to data that is required in the performance of their duties. Periodic assessments and reviews are conducted to determine whether users still require access, have the appropriate role, and whether there have been any unauthorized changes.

RECORD ACCESS PROCEDURES:

The Privacy Act allows individuals the right to access records maintained about them in a Board system of records. Your request for access must: (1) Contain a statement that it is made pursuant to the Privacy Act of 1974; (2) provide either the name of the Board system of records expected to contain the record requested or a concise description of the system of records; (3) provide the information necessary to verify your identity; and (4) provide any other information that may assist in the rapid identification of the record you seek.

Current or former Board employees may make a request for access by contacting the Board office that maintains the record. The Board handles all Privacy Act requests as both a Privacy Act request and as a Freedom of Information Act request. The Board does not charge fees to a requestor seeking to access or amend his/her Privacy Act records.

You may submit your Privacy Act request to the—

Secretary of the Board, Board of Governors of the Federal Reserve System, 20th Street and Constitution Avenue NW, Washington DC 20551.

You may also submit your Privacy Act request electronically through the Board's FOIA “Electronic Request Form” located here: https://www.federalreserve.gov/secure/forms/efoiaform.aspx.

CONTESTING RECORD PROCEDURES:

The Privacy Act allows individuals to seek amendment of information that is erroneous, irrelevant, untimely, or incomplete and is maintained in a system of records that pertains to them. To request an amendment to your record, you should clearly mark the request as a “Privacy Act Amendment Request.” You have the burden of proof for demonstrating the appropriateness of the requested amendment and you must provide relevant and convincing evidence in support of your request.

Your request for amendment must: (1) Provide the name of the specific Board system of records containing the record you seek to amend; (2) identify the specific portion of the record you seek to amend; (3) describe the nature of and reasons for each requested amendment; (4) explain why you believe the record is not accurate, relevant, timely, or complete; and (5) unless you have already done so in a related Privacy Act request for access or amendment, provide the necessary information to verify your identity.

NOTIFICATION PROCEDURES:

Same as “Access procedures” above. You may also follow this procedure in order to request an accounting of previous disclosures of records pertaining to you as provided for by 5 U.S.C. 552a(c).

EXEMPTIONS PROMULGATED FOR THE SYSTEM:

No exemptions are claimed for this system.

HISTORY:

This SORN was previously published in the Federal Register at 73 FR 24984 at 25002 (May 6, 2008). The SORN was also amended to incorporate two new routine uses required by OMB at 83 FR 43872 (August 28, 2018).

Board of Governors of the Federal Reserve System.
Ann Misback,
Secretary of the Board.

[FR Doc. 2019-27866 Filed 12-26-19; 8:45 am]

BILLING CODE P